DEPARTMENT OF DEFENSE

Office of the Secretary

[DOD-2008-OS-0002]

Privacy Act of 1974; System of Records

AGENCY: Defense Information Systems Agency.

ACTION: Notice to Add a System of Records.

SUMMARY: Defense Information Systems Agency proposes to add a system of records notice in its existing inventory of records systems subject to the Privacy Act of 1974, (5 U.S.C. 552a), as amended.

DATES: This proposed action will be effective without further notice on March 3, 2008 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974, (5 U.S.C. 552a), as amended, have been published in the Federal Register and are available from the address above.

The proposed system reports, as required by 5 U.S.C. 552a (r), of the Privacy Act of 1974, as amended, were submitted on January 23, 2008, to the House Committee on Oversight and Government of Oversight and Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: January 24, 2008.
L.M. Bynum,
Alternate OSD Federal Register Liaison Officer, Department of Defense.

K890.10

System name:

Joint Enterprise Directory Services (JEDS).

System location:

Defense Information Systems Agency, Directory Services Branch, PEO-IAN/IA42, P.O. Box 4502, Arlington, VA 22204-4502, or a list of system locations may be obtained by e-mailing jeds2@disa.mil.

Categories of individuals covered by the system:

Department of Defense (DoD) personnel who have been issued DoD Common Access Cards (CAC) or a DoD Class 3 Public Key Infrastructure (PKI) certificate to include civilian employees, military personnel, contractors and other individuals detailed or assigned to DoD Components.

Categories of records in the system:

Individual's name, Electronic Data Interchange Person Identifier (EDI PI), other unique identifier (not SSN), rank, title, personnel type, DoD component, DoD sub-component, Non-DoD agency, position title, business e-mail address, and display name(s), office commercial and Defense System Network (DSN) phone and fax numbers, business mobile phone numbers, Internet Protocol (IP) phones, business location and mailing addresses, DoD PKI e-mail encryption certificate, distinguished name from source record(s), directory publishing restrictions, country of citizenship, U.S. citizenship status, DoD job skill, language skill and occupational codes, reserve component code, segment termination code, assigned unit name, code and location, attached unit name, code and location, major geographical location, major command, assigned major command, job series, billet code, and pay grade.

Authority for maintenance of the system:

5 U.S.C. 301, Departmental Regulation; DoD Directive 5105.19, Defense Information Systems Agency (DISA); DoD Chief Information Officer Memorandum for Director, Defense Information Systems Agency (DISA), Enterprise Directory Services Roadmap for the Department of Defense, 2 May 2005.

Purpose(s):

To provide a DoD Directory Services capability offering a single source from which to obtain identity and contact information about Combatant Command, Service, and Agency personnel as well as an enterprise level attribute service. JEDS will support the warfighter's mission by providing access, via controlled interfaces, to DoD personnel contact information and when requested by approved DoD applications, to identity attributes, and to support authorization decisions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the DISA's compilation of systems of records notices apply to this system.

Policies and practices for storing, retrieving, accessing, retaining, and disposing of records in the system:

Storage:

Electronic storage media.

Retrievability:

By individual's name.

Safeguards:

Access to the type and amount of data is governed by privilege management software and policies developed and enforced by Federal government personnel. Defense-in-Depth methodology is used to protect the repository and interfaces, including (but not limited to) multi-layered firewalls, Secure Sockets Layer/Transport Layer Security connections, Directory access control lists, file system permissions, intrusion detection and prevention systems and log monitoring. Complete access to all records is restricted to and controlled by certified system management personnel, who are responsible for maintaining the JEDS system integrity and the data confidentiality.

Retention and disposal:

Records are maintained on personnel while actively employed by, supporting or affiliated with the Department of Defense. Records for personnel no longer actively supporting the DoD are permanently deleted from the system.

System manager(s) and address:

Director, Defense Information Systems Agency, Directory Services Branch, PEO-IAN/IA42, P.O. Box 4502, Arlington, VA 22204-4502.

Notification procedure:

Individuals seeking to determine whether information about themselves is contained in this system of records should e-mail jeds2@disa.mil or address written inquiries to Defense Information Systems Agency, Directory Services Branch, PEO-IAN/IA42, P.O. Box 4502, Arlington, VA 22204-4502.

Requests must include the individual's full name, rank, grade or title, component affiliation, work e-mail address, telephone number, assigned office or unit, and complete mailing address.

E-mail requests must be digitally signed with the requester's valid DoD or ECA identity certificate.

Record access procedures:

Individuals seeking access to get information about themselves contained in this system of records should e-mail jeds2@disa.mil or address written inquiries to Defense Information Systems Agency, Directory Services Branch, PEO-IAN/IA42, P.O. Box 4502,. Arlington, VA 22204-4502.

Requests must include the individual's full name, rank, grade or title, component affiliation, work email address, telephone number, assigned office or unit, and complete mailing address.

E-mail requests must be digitally signed with the requester's valid DoD or ECA identity certificate.

Contesting record procedures:

DISA's rules for accessing records, for contesting content and appealing initial agency determinations are published in DISA Instruction 210-225-2; 32 CFR part 316; or may be obtained from the system manager by e-mailing jeds2@disa.mil.

Record source categories:

DoD Component directories, the Defense Eligibility Enrollment Reporting System (DEERS), and the DISA DoD PKI Global Directory Service (GDS).

Exemptions claimed for the system:

None.

[FR Doc. E8-1744 Filed 1-30-08; 8:45 am]

BILLING CODE 5001-06-P